DEPARTMENT OF THE INTERIOR

Bureau of Land Management

[LAZP04000.L17110000.DU0000.223]

Notice of Intent To Amend the Resource Management Plan for the Sonoran Desert National Monument, Arizona, and Prepare an Associated Environmental Assessment

AGENCY: Bureau of Land Management, Interior.

ACTION: Notice of intent.

SUMMARY: In compliance with the National Environmental Policy Act of 1969, as amended (NEPA), and the Federal Land Policy and Management Act of 1976, as amended, the Bureau of Land Management (BLM) Arizona State Director intends to prepare a Resource Management Plan (RMP) amendment with an associated environmental assessment (EA) concerning recreational target shooting for the Sonoran Desert National Monument (SDNM). By this notice the BLM is announcing the beginning of the scoping period to solicit public comments and identify issues and is providing the planning criteria for public review.

DATES: The BLM requests that the public submit comments concerning the scope of the analysis, potential alternatives, planning criteria, and identification of relevant information, and studies by September 23, 2022. To afford the BLM the opportunity to consider issues please ensure your comments are received prior to the close of the 30-day scoping period or 15 days after the last public meeting, whichever is later. The date(s) and time(s) of scoping meetings will be announced at least 15 days in advance through local news releases, newspapers, and the BLM Arizona Phoenix District web page, https://www.blm.gov/office/phoenix-district-office.

ADDRESSES: You may submit comments on issues and planning criteria related to the SDNM RMP Amendment and EA addressing Recreational Target Shooting availability in the monument by any of the following methods:

• Website: https://eplanning.blm.gov/eplanning-ui/project/2019811/510.

• Email: BLM_AZ_SDNMtargetshooting@blm.gov.

• Mail: BLM, Sonoran Desert National Monument, Attn.: RMPA EA, 2020 E. Bell Road, Phoenix AZ 85022.

Documents pertinent to this proposal may be examined online at https://eplanning.blm.gov/eplanning-ui/project/2019811/510 and at the Phoenix District Office, 2020 E. Bell Road, Phoenix, Arizona 85022.

FOR FURTHER INFORMATION CONTACT: Katie White Bull, Acting Field Manager, telephone (480) 739-8721; address 2020 E. Bell Road, Phoenix, Arizona 85022; email kwhitebull@blm.gov. Contact Ms. White Bull to have your name added to our mailing list. Individuals in the United States who are deaf, deafblind, hard of hearing, or have a speech disability may dial 711 (TTY, TDD, or TeleBraille) to access telecommunications relay services for contacting Ms. White Bull. Individuals outside the United States should use the relay services offered within their country to make international calls to the point-of-contact in the United States.

SUPPLEMENTARY INFORMATION: This document provides notice that the BLM Arizona State Director intends to prepare and consider an RMP amendment with an associated EA for recreational target shooting availability in the SDNM, announces the beginning of the scoping process, and seeks public input on issues, preliminary alternatives, and planning criteria. The RMP amendment would change the existing SDNM Record of Decision and Approved Resource Management Plan (BLM 2012), as amended by the 2018 Record of Decision and Approved Resource Management Plan Amendment.

The planning area is located in Maricopa and Pinal Counties, Arizona and encompasses approximately 486,400 acres of public land.

The scope of this land use planning process does not include addressing the evaluation or designation of Areas of Critical Environmental Concern (ACECs), and the BLM is not considering ACEC nominations as part of this process.

Purpose and Need

The purpose of the RMP amendment is to establish management guidance specific to recreational target shooting on public land within the SDNM while ensuring the decisions are consistent with the SDNM proclamation and other resource decisions in the 2012 SDNM Record of Decision and Approved Resource Management Plan. The need for this planning effort is to fulfill requirements of an April 2022 settlement agreement that the BLM entered to resolve litigation concerning the agency's 2018 Record of Decision and Approved Resource Management Plan Amendment for the SDNM.

Preliminary Alternatives

The RMP amendment process will consider whether and where recreational target shooting should be allowed in the SDNM, along with any associated management actions. Preliminary alternatives include the No Action alternative, which reflects the 2018 Record of Decision and approved resource management plan amendment that identified approximately 435,700 acres of public land as available for dispersed recreational target shooting along with a monitoring and mitigation framework to avoid or minimize impacts on monument objects while increasing public safety. In accordance with the April 2022 settlement agreement referenced earlier, the BLM will also analyze an alternative under which several areas in the monument would be unavailable to recreational target shooting, including designated wilderness; lands with wilderness characteristics managed to protect those characteristics; an area in the northwest portion of the monument where the Komatke Trail is suspected to exist, along with a 0.5 mile buffer north of the suspected trail, unless, prior to the completion of the land use planning process, additional field work demonstrates the nonexistence of the trail; the area south of Highway 238 from the western edge of the monument boundary to the western edge of the South Maricopa Mountains Wilderness area boundary, and the area south of I-8 and west of the Table Top Wilderness, known as the Vekol Valley; the portion of the monument that used to be part of the Barry M. Goldwater Air Force Range before it was reconveyed to the BLM; and any area where the BLM's suitability analysis identifies monument objects and determines target shooting is inconsistent with the objects' proper care and management. This alternative will also include a mitigation and monitoring protocol to protect monument objects where target shooting is allowed. The BLM welcomes comments on all preliminary alternatives as well as suggestions for additional alternatives.

Planning Criteria

The planning criteria guide the planning effort and lay the groundwork for effects analysis by identifying the preliminary issues and their analytical frameworks. Preliminary issues for the planning area have been identified by BLM personnel and from early engagement conducted for this planning effort with Federal, State, and local agencies; Tribes; and other stakeholders. The BLM has identified three preliminary issues for this planning effort's analysis: (1) impacts on monument objects from recreational target shooting, (2) effectiveness of the mitigation and monitoring protocol in protecting monument objects, and (3) public health and safety. The planning criteria are available for public review and comment at the ePlanning website (see ADDRESSES).

Public Scoping Process

This notice of intent initiates the scoping period and public review of the planning criteria, which guide the development and analysis of the RMP amendment and EA.

The BLM will be holding a minimum of two virtual public meetings. The specific date(s) and location(s) of these scoping meetings will be announced at least 15 days in advance through local media, newspapers, and the project ePlanning page. You may submit comments to the BLM using one of the methods listed in the ADDRESSES section previously.

Dingell Act Recreational Target Shooting Closures

In accordance with the John D. Dingell, Jr. Conservation, Management, and Recreation Act of 2019 (Dingell Act, Pub. L. 116-9, Section 4103), the BLM is generally required to provide public notice and comment before a final decision is made to close an area to recreational shooting. If the BLM proposes any recreational shooting closures as part of the RMP amendment process, it will provide opportunities for public participation in accordance with 16 U.S.C. 7913.

Interdisciplinary Team

The BLM will use an interdisciplinary approach to develop the plan amendment to consider the variety of resource issues and concerns identified. Specialists with expertise in various disciplines, such as recreation management, National Conservation Lands, wildlife, vegetation, range management and soils, cultural and heritage resources, social and economic conditions and environmental justice, planning and environmental coordination, and Geographic Information Systems will be involved in this planning effort.

Additional Information

The BLM will identify, analyze, and consider mitigation to address the reasonably foreseeable impacts to resources from the proposed plan amendment and all analyzed reasonable alternatives and, in accordance with 40 CFR 1502.14(e), include appropriate mitigation measures not already included in the proposed plan amendment or alternatives. Mitigation may include avoidance, minimization, rectification, reduction or elimination over time, and compensation; and it may be considered at multiple scales, including the landscape scale.

The BLM will utilize and coordinate the NEPA and land use planning processes for this planning effort to help support compliance with applicable procedural requirements under the Endangered Species Act (16 U.S.C. 1536) and Section 106 of the National Historic Preservation Act (54 U.S.C. 306108) as provided in 36 CFR 800.2(d)(3), including public involvement requirements of Section 106. The information about historic and cultural resources and threatened and endangered species within the area potentially affected by the proposed plan amendment will assist the BLM in identifying and evaluating impacts to such resources.

The BLM will consult with Indian Tribal Nations on a government-to-government basis in accordance with Executive Order 13175, BLM Manual Section 1780, and other Departmental policies. Tribal concerns, including impacts on Indian trust assets and potential impacts to cultural resources, will be given due consideration. Federal, State, and local agencies, along with Indian Tribal nations and other stakeholders that may be interested in or affected by the proposed plan amendment that the BLM is evaluating are invited to participate in the scoping process and, if eligible, may request or be requested by the BLM to participate in the development of the environmental analysis as a cooperating agency. The BLM intends to hold a series of government-to-government consultation meetings. The BLM will send invites to potentially affected Tribal nations prior to the meetings. The BLM will provide additional opportunities for government-to-government consultation during the NEPA process.

Before including your address, phone number, email address, or other personal identifying information in your comment, you should be aware that your entire comment—including your personal identifying information—may be made publicly available at any time. While you can ask us in your comment to withhold your personal identifying information from public review, we cannot guarantee that we will be able to do so.

Authority: 40 CFR 1501.7 and 43 CFR 1610.2)

Raymond Suazo,
State Director.

[FR Doc. 2022-18254 Filed 8-23-22; 8:45 am]

BILLING CODE 4310-32-P